GENERAL SERVICES ADMINISTRATION

Privacy Act of 1974; Notice of Updated Systems of Records

AGENCY: General Services Administration.

ACTION: Notice.

SUMMARY: GSA reviewed its Privacy Act systems to ensure that they are relevant, necessary, accurate, up-to-date, covered by the appropriate legal or regulatory authority, and in response to OMB M-07-16. This notice is a compilation of updated Privacy Act system of record notices.

DATES: Effective May 27, 2008.

FOR FURTHER INFORMATION CONTACT: Call or e-mail the GSA Privacy Act Officer: telephone 202-208-1317; e-mail gsa.privacyact@gsa.gov.

ADDRESSES: GSA Privacy Act Officer (CIB), General Services Administration, 1800 F Street, NW., Washington, DC 20405.

SUPPLEMENTARY INFORMATION: GSA undertook and completed an agency-wide review of its Privacy Act systems of records. As a result of the review GSA is publishing updated Privacy Act systems of records notices. Rather than make numerous piecemeal revisions, GSA is republishing updated notices for one of its systems. Nothing in the revised system notices indicates a change in authorities or practices regarding the collection and maintenance of information. Nor do the changes impact individuals' rights to access or amend their records in the systems of records. The updated system notices also includes the new requirement from OMB Memorandum M-07-16 regarding a new routine use that allows agencies to disclose information in connection with a response and remedial efforts in the event of a data breach.

Dated: April 16, 2008.
Cheryl M. Paige,
Director, Office of Information Management.

GSA/HRO-3

SYSTEM NAME:

Occupational Health and Injury Files.

SYSTEM LOCATION:

The system of records is used in the General Services Administration's Office of Human Resources Services; the Safety and Environmental Management Division, Office of Real Property Management and Safety, Public Building Service; and in the offices of supervisors of any employee who has had an occupational health problem or who was injured on the job. The data base is in computers at the Heartland Regional Office, Kansas City MO.

The Human Resources Services Offices are as follows:

Central Office, Central Office Human Resources Division (CPS), General Services Administration, 1800 F Street NW., Washington, DC 20405, (202) 501-0040.

National Capital Region, Human Resources Office (WCP), General Services Administration, 7th and D Streets SW., Washington, DC 20407, (202) 708-5335.

New England Region, Human Resources Office (1CP), General Services Administration, 10 Causeway Street, Boston, MA 02222, (617) 565-6634.

Northeast and Caribbean Region, Human Resources Office (2AR), General Services Administration, 26 Federal Plaza, New York, NY 10278, (212) 264-8138.

Mid-Atlantic Region, Human Resources Office (3CP), General Services Administration, The Strawbridge Building, 20 North Eighth Street, Philadelphia, PA 19107-3191, (215) 446-4951.

Southeast Sunbelt Region, Office of Human Resources (4AH), General Services Administration, 77 Forsyth Street, Suite 650, Atlanta, GA 30303, (404) 331-3186.

Great Lakes Region, Human Resources Office (5CP), General Services Administration, 230 South Dearborn Street, Chicago, IL 60604, (312) 353-5550.

The Heartland Region, Human Resources Office (6CP), General Services Administration, 1500 East Bannister Road, Kansas City, MO 64131, (816) 926-7206.

Greater Southwest Region, Human Resources Office (7CP), General Services Administration, 819 Taylor Street, Room 9A00, Forth Worth, TX 76102, (817) 978-3190.

Pacific Rim Region, Human Resources Office (9CP), General Services Administration, 450 Golden Gate Avenue, San Francisco, CA 94100, (415) 744-5185.

PERSONS COVERED BY THE SYSTEM:

GSA employees who were injured or who have an occupational health problem.

TYPES OF RECORDS IN THE SYSTEM:

The system includes:

• Accident reports (including CA 1 and 2: Federal Employee's Notice of Injury or Occupational Disease);

• Claims for Compensation for Injury or Occupational Disease (CA 4 replaced with CA-2);

• Claims for Continuance of Compensation on Account of Disability (CA 8 replaced with CA-7); and

• Lists of employees receiving medical services, and health records. The automated information system contains statistics such as occupation and sex of employees, age group, cost per injury, days lost, cause and severity of injuries, and part(s) injured.

AUTHORITY FOR MAINTAINING THE SYSTEM:

5 U.S.C. ch. 81 and 5 U.S.C. 7203 and 7901.

PURPOSE:

To maintain information for accident and occupational health reports, gather data for statistical reports, and record any employee who is injured or has an occupational health problem.

ROUTINE USES OF RECORDS MAINTAINED IN THE SYSTEM, INCLUDING THE TYPE OF USER AND THEIR PURPOSE IN USING THE RECORDS:

System information may be accessed and used by authorized Federal agency employees or contractors to conduct official duties. Information from this system also may be disclosed as a routine use:

a. To a Federal, State, or local public health agency on any employee who has a specific communicable disease or condition. The purpose is to prevent the spread of the disease or condition.

b. In any legal proceeding, where pertinent, to which GSA is a party before a court or administrative body.

c. To the Office of Worker's Compensation Programs on a claim for benefits filed by an employee.

d. To a Federal agency in connection with the hiring or retention of an employee; the issuance of a security clearance; the reporting of an investigation; the letting of a contract; or the issuance of a grant, license, or other benefit to the extent that the information is relevant and necessary to a decision.

e. To the Office of Personnel Management (OPM), the Office of Management and Budget (OMB), or the Government Accountability Office (GAO) when the information is required for program evaluation purposes.

f. To a Member of Congress or staff on behalf of and at the request of the individual who is the subject of the record.

g. To the Occupational Safety and Health Administration, as required by section 19 of the Occupational Safety and Health Act.

h. To Central Office and regional office managers and supervisors to identify trends in injuries and better manage the program.

i. To the Department of Labor to verify payments to an injured employee.

j. To an expert, consultant, or contractor of GSA in the performance of a Federal duty to which the information is relevant.

k. To the National Archives and Records Administration (NARA) for records management purposes.

l. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORING, RETRIEVING, ACCESSING, RETAINING, AND DISPOSING OF RECORDS IN THE SYSTEM:

STORAGE:

Paper records are kept in file folders. Magnetic tapes and disks are stored in libraries. Electronic records are stored in computers and attached equipment.

RETRIEVABILITY:

Records are filed and retrieved by Social Security Number or claim number.

SAFEGUARDS:

Records are stored in locked file cabinets or in secured rooms. Computer records are protected by a password system.

RETENTION AND DISPOSAL:

The Office of Human Resources Services disposes of the records as scheduled in the handbook, GSA Records Maintenance and Disposition system (OAD P 1820.2A).

SYSTEM MANAGER AND ADDRESS:

Chief, Employee Relations Branch, (CPSE), Office of Human Resources Services (CP), General Services Administration (CP), 18th and F Streets, NW., Washington, DC 20405.

NOTIFICATION PROCEDURES:

Current employees should address requests to their supervisor or to the Human Resources Services officer. Former employees should address requests to the Human Resources Services officer.

RECORD ACCESS PROCEDURES:

Current employees should address requests to their supervisor or to the Human Resources Services officer. Former employees should address requests to the Human Resources Services officer. For the identification required, see 41 CFR part 105-64.

PROCEDURE FOR CONTESTING THE CONTENT OF A RECORD:

GSA rules for contesting the content and appealing an initial decision are in 41 CFR part 105-64.

RECORD SOURCES:

The employee and the personnel specialist who prepared a claim.

[FR Doc. E8-8909 Filed 4-24-08; 8:45 am]

BILLING CODE 6820-34-P